OFFICE OF PERSONNEL MANAGEMENT

5 CFR Part 532

RIN 3206-AJ63

Prevailing Rate Systems; Change in Federal Wage System Survey Job

AGENCY: Office of Personnel Management.

ACTION: Final rule.

SUMMARY: The Office of Personnel Management is issuing a final rule that will allow the Department of Defense to use the Maintenance Mechanic Federal Wage System (FWS) survey job without having to seek OPM's approval on a case-by-case basis. This change will improve the local FWS wage survey process.

DATES: Effective Date February 5, 2003.

FOR FURTHER INFORMATION CONTACT: Chenty I. Carpenter, (202) 606-2848, FAX: (202) 606-0824, or e-mail cicarpen@opm.gov.

SUPPLEMENTARY INFORMATION: On August 1, 2002, the Office of Personnel Management (OPM) issued a proposed rule to permit the Department of Defense (DOD) to use the Maintenance Mechanic Federal Wage System (FWS) survey job on an optional basis without having to seek OPM's advance approval. The Maintenance Mechanic survey job is now used routinely in many FWS wage areas because of changes in the structure of both Federal and private sector maintenance work. The proposed rule provided a 30-day period for public comment, during which OPM received no comments.

OPM's regulations contain required and optional survey jobs. If a particular survey job does not appear on either list, but is needed for a local wage survey, an agency must request OPM's written approval. The Federal Prevailing Rate Advisory Committee (FPRAC) established a Survey Job Work Group (SJWG) to review FWS survey job descriptions. The SJWG recommended that OPM add the Maintenance Mechanic survey job to the list of optional FWS survey jobs. Adding the Maintenance Mechanic survey job to the list of optional survey jobs would enable DOD to use the survey job at its discretion without having to ask OPM for prior approval. This will allow DOD to save time when conducting FWS wage surveys. FPRAC agreed with its working group and recommended that OPM make this change.

Regulatory Flexibility Act

I certify that this regulation will not have a significant economic impact on a substantial number of small entities because it will affect only Federal agencies and employees.

Executive Order 12866, Regulatory Review

This rule has been reviewed by the Office of Management and Budget in accordance with Executive Order 12866.

List of Subjects in 5 CFR Part 532

Administrative practice and procedure, Freedom of information, Government employees, Reporting and recordkeeping requirements, Wages.

Office of Personnel Management.

Kay Coles James,
Director.

Accordingly, the Office of Personnel Management is amending 5 CFR part 532 as follows:

PART 532—PREVAILING RATE SYSTEMS

1. The authority citation for part 532 continues to read as follows:

Authority: 5 U.S.C. 5343, 5346; “532.707 also issued under 5 U.S.C. 552.

§ 532.217 [Amended]

2. In §532.217, paragraph (c) is amended by adding the job “Maintenance Mechanic” and grade “10” after Television Station Mechanic.

[FR Doc. 03-216 Filed 1-3-03; 8:45 am]

BILLING CODE 6325-39-P